CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled AmeriCorps NCCC's (National Civilian Community Corps) Member Experience Survey for review and approval in accordance with the Paperwork Reduction Act of 1995, Public Law 104-13, (44 U.S.C. Chapter 35). Copies of this ICR, with applicable supporting documentation, may be obtained by calling the Corporation for National and Community Service, Terry Grant, at 202 606 6899 or email to tgrant@cns.gov. Individuals who use a telecommunications device for the deaf (TTY-TDD) may call 1-800-833-3722 between 8:00 a.m. and 8:00 p.m. Eastern Time, Monday through Friday.

DATES: Comments may be submitted, identified by the title of the information collection activity, within September 19, 2016.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on March 30, 2016, at Vol. 81, No. 61 FR 17686-17687. This comment period ended May 31, 2016. No public comments were received from this Notice.

Description: This is a new information collection request. This survey was developed to support NCCC performance measurement for use in program development, funding, and evaluation. The survey instrument will be completed by NCCC Members following the completion of their service term. In particular, this survey will be administered to NCCC Members who are exiting early or have already exited early from the AmeriCorps NCCC program. Completion of this information collection is not required for the completion of a service term with NCCC.

Type of Review: New.

Agency: Corporation for National and Community Service.

Title: NCCC Member Experience Survey.

OMB Number: TBD.

Agency Number: None.

Affected Public: The NCCC Member Experience Survey will be administered to former NCCC Members.

Total Respondents: Approximately 450.

Frequency: Each respondent will complete only one survey for their most recent service term.

Average Time per Response: 25 minutes.

Estimated Total Burden Hours: 187.5 hours.

Total Burden Cost (capital/startup): None.

Total Burden Cost (operating/maintenance): None.

Dated: August 11, 2016.
Charles Davenport,
Acting Director, National Civilian Community Corps.

[FR Doc. 2016-19655 Filed 8-17-16; 8:45 am]

BILLING CODE 6050-28-P